GENERAL SERVICES ADMINISTRATION

[OMB Control No. 3090-0246; Docket 2012-0001 Sequence 15]

General Services Administration Regulation; Information Collection; Packing List Clause

AGENCY: Office of Acquisition Policy, GSA.

ACTION: Notice of request for an extension of a information collection requirement for an existing OMB clearance.

SUMMARY: Under the provisions of the Paperwork Reduction Act, the Regulatory Secretariat will be submitting to the Office of Management and Budget (OMB) a request to review and approve an extension of a previously approved information collection requirement regarding the packing list clause.

Public comments are particularly invited on: Whether this collection of information is necessary and whether it will have practical utility; whether our estimate of the public burden of this collection of information is accurate, and based on valid assumptions and methodology; and ways to enhance the quality, utility, and clarity of the information to be collected.

DATES: Submit comments on or before: January 4, 2013.

ADDRESSES: Submit comments identified by Information Collection 3090-0246, Packing List Clause, by any of the following methods:

• Regulations.gov: http://www.regulations.gov. Submit comments via the Federal eRulemaking portal by searching the OMB control number. Select the link “Submit a Comment” that corresponds with “Information Collection 3090-0246, Packing List Clause”. Follow the instructions provided at the “Submit a Comment” screen. Please include your name, company name (if any), and “Information Collection 3090-0246, Packing List Clause” on your attached document.

• Fax: 202-501-4067.

• Mail: General Services Administration, Regulatory Secretariat (MVCB), 1275 First Street NE., Washington, DC 20417. ATTN: Hada Flowers/IC 3090-0246, Packing List Clause.

Instructions: Please submit comments only and cite Information Collection 3090-0246, Packing List Clause, in all correspondence related to this collection. All comments received will be posted without change to http://www.regulations.gov, including any personal and/or business confidential information provided.

FOR FURTHER INFORMATION CONTACT: Deborah Eble, Procurement Analyst, GSA Policy Integrity Workforce, by telephone (215) 446-5823 or via email at Deborah.eble@gsa.gov.

SUPPLEMENTARY INFORMATION:

A. Purpose

GSAR clause 552.211-77, Packing List, requires a contractor to include a packing list that verifies placement of an order and identifies the items shipped. In addition to information contractors would normally include on packing lists, the identification of cardholder name, telephone number and the term “Credit Card” is required.

B. Annual Reporting Burden

Respondents: 4,000.

Responses per Respondent: 233.

Hours per Response: .00833.

Total Burden Hours: 7,757.

Obtaining Copies of Proposals: Requesters may obtain a copy of the information collection documents from the General Services Administration, Regulatory Secretariat (MVCB), 1275 First Street NE., Washington, DC 20417, telephone (202) 501-4755. Please cite OMB Control No. 3090-0246, Packing List Clause, in all correspondence.

Dated: October 10, 2012.
Joseph A. Neurauter,
Director, Office of Acquisition Policy & Senior Procurement Executive (MV).

[FR Doc. 2012-26955 Filed 11-2-12; 8:45 am]

BILLING CODE 6820-61-P